DEPARTMENT OF EDUCATION

Regional Advisory Committees

AGENCY: U.S. Department of Education, Office of Elementary and Secondary Education.

ACTION: Request for nominations to serve on the Regional Advisory Committees.

SUMMARY: The Secretary of Education (Secretary) invites interested parties to submit nominations for individuals to serve on the Regional Advisory Committees.

SUPPLEMENTARY INFORMATION: The Regional Advisory Committees (RACs) will be established by the Secretary and governed by the provisions of the Federal Advisory Committee Act (FACA) (Pub. L. 92-463, as amended; 5 U.S.C., Appendix). The Secretary is establishing ten RACs, one in each region served by the Regional Educational Laboratories, in order to collect information on the educational needs of each region. The RACs will seek input regarding the need for the technical assistance activities described in section 203 of the Educational Technical Assistance Act (ETAA) and how those needs would be most effectively addressed. In order to achieve this purpose, the RACs will seek input from chief executive officers of States; chief State school officers; educators, including teachers and administrators; local educational agencies; librarians; businesses; State educational agencies; parents; and other customers. Not later than six months after each RAC is convened, it will submit a report to the Secretary. Each report will identify the educational needs of the region and how those needs would be most effectively addressed. To the extent that he deems appropriate, the Secretary will consider these reports, and other relevant regional surveys of educational needs, in establishing priorities for the comprehensive centers.

Section 206(b) of the ETAA requires that the membership of each RAC contain a balanced representation of States in the region and include not more than one representative of each State educational agency located in the region. The membership of each RAC may include the following: Representatives of local educational agencies, both rural and urban; representatives of institutions of higher education, including those that represent university-based research on education and on subjects other than education; parents; practicing educators, including classroom teachers, principals, administrators, school board members, and other local school officials; representatives of business; and researchers. Each RAC will be composed of approximately 12 members.

Nomination Process

Any interested person or organization may nominate one or more qualified individuals for membership. If you would like to nominate an individual or yourself for appointment to one of the RACs, please submit the following information to the Department's White House Liaison Office:

• A copy of the nominee's resume;

• A cover letter that provides the reason(s) for nominating the individual;

• Contact information for the nominee (name, title, home and business address, phone number, fax number, and e-mail address); and

• Specify the groups the nominee may qualify to represent from the following categories (list all that apply):

○ State educational agency.

○ Local educational agency (LEA).

• Rural LEA.

• Urban LEA.

○ Practicing educator.

• Classroom teacher.

• School principal.

• Other school administrator.

• School board member.

• Other local school official.

○ Parent.

○ Institution of higher education.

• University-based education research.

• University-based research on subjects other than education.

○ Business.

○ Researchers.

In addition, the cover letter must state that the nominee (if you are nominating someone other than yourself) has agreed to be nominated and is willing to serve on one of the RACs. Nominees will be appointed based on technical qualifications, professional experience, demonstrated knowledge of issues, and demonstrated experience, integrity, impartiality, and good judgment.

The Secretary will appoint members for the life of the Committee, which will span approximately five months. The committee will meet approximately five times during this period. Any member appointed to fill a vacancy occurring prior to the expiration of the full term for which the member's predecessor was appointed will be appointed for the remainder of such term. Members will serve without compensation. However, members may receive reimbursement for travel expenses for attending Committee meetings, including per diem in lieu of subsistence, as authorized by the Federal travel regulations.

Each RAC will be composed of both representatives of organizations or recognizable groups of persons and Special Government Employees (SGEs). SGE members will be chosen for their individual expertise, qualifications, and experience; they will provide advice and make recommendations based on their independent judgment and will not be speaking for or representing the views of any nongovernmental organization or recognizable group of persons.

DATES: Nominations for individuals to serve on the RACs must be submitted (postmarked, if sending by mail; submitted electronically; or received, if hand delivered) by January 5, 2011.

ADDRESSES: You may submit nominations, including attachments, by any of the following methods:

• Electronically: Send to: WhiteHouseLiaison@ed.gov (specify in the e-mail subject line, “Regional Advisory Committee Nomination”).

• Mail, express delivery, hand delivery, messenger, or courier service: Submit one copy of the documents listed above to the following address: U.S. Department of Education, White House Liaison Office, 400 Maryland Avenue, SW., Room 7C109, Washington, DC 20202, Attn: Karen Akins. Express mail or hand delivery is encouraged to ensure timely receipt of materials.

For questions, contact Karen Akins, White House Liaison Office, at (202) 401-3677, at (202) 205-0723 (fax), or via e-mail at WhiteHouseLiaison@ed.gov.

Dated: November 29, 2010.
Arne Duncan,
Secretary of Education.

[FR Doc. 2010-30475 Filed 12-3-10; 8:45 am]

BILLING CODE P